DEPARTMENT OF LABOR

Occupational Safety and Health Administration

[Docket No. NRTL-3-92]

TUV Rheinland of North America, Inc., Application for Expansion of Recognition

AGENCY: Occupational Safety and Health Administration (OSHA), Labor.

ACTION: Notice.

SUMMARY: This notice announces the application of TUV Rheinland of North America, Inc., (TUV) for expansion of its recognition as a Nationally Recognized Testing Laboratory (NRTL) under 29 CFR 1910.7, and presents the Agency's preliminary finding. This preliminary finding does not constitute an interim or temporary approval of this application.

DATES: Comments submitted by interested parties must be received no later than May 1, 2000.

ADDRESSES: Send comments concerning this notice to: Office of Technical Programs and Coordination Activities, NRTL Program, Occupational Safety and Health Administration, U.S. Department of Labor, 200 Constitution Avenue, NW, Room N3653, Washington, D.C. 20210.

FOR FURTHER INFORMATION CONTACT: Bernard Pasquet, Office of Technical Programs and Coordination Activities, NRTL Program at the above address, or phone (202) 693-2110.

SUPPLEMENTARY INFORMATION:

Notice of Application

The Occupational Safety and Health Administration (OSHA) hereby gives notice that TUV Rheinland of North America, Inc., (TUV) has applied for expansion of its current recognition as a Nationally Recognized Testing Laboratory (NRTL). TUV's expansion request covers the use of additional test standards.

OSHA recognition of an NRTL signifies that the organization has met the legal requirements in Section 1910.7 of Title 29, Code of Federal Regulations (29 CFR 1910.7). Recognition is an acknowledgment that the organization can perform independent safety testing and certification of the specific products covered within its scope of recognition, and is not a delegation or grant of government authority. As a result of recognition, OSHA can accept products “properly certified” by the NRTL. OSHA processes applications related to an NRTL's recognition following requirements in Appendix A to 29 CFR 1910.7. This appendix requires that the Agency publish this public notice of the preliminary finding on an application.

The most recent notices published by OSHA for the TUV recognition covered an expansion of recognition, which OSHA announced on January 8, 1998 (63 FR 1127) and granted on April 2, 1998 (63 FR 16280).

The current address of the TUV facility (site) recognized by OSHA is: TUV Rheinland of North America, Inc., 12 Commerce Road, Newtown, Connecticut 06470.

General Background on the Application

TUV has submitted a request, dated May 5, 1999 (see Exhibit 19A), to expand its recognition as an NRTL for one hundred forty (140) additional test standards. TUV also submitted information in support of its request with a letter, dated July 6, 1999 (see Exhibit 19B). OSHA has determined that twenty-one (21) of the standards that TUV requested are not “appropriate test standards,” as specified in 29 CFR 1910.7(c). Therefore, the expansion will only cover the one hundred-nineteen (119) test standards listed below.

The NRTL has submitted documentation that shows its general capability for testing to the standards for which it seeks recognition. The testing capabilities required under these standards are very similar to those standards for which it is already recognized. TUV will develop more specific documentation for testing to the standards requested. Since the Agency has not yet reviewed these procedures, it has concerns regarding the actual procedures that TUV will develop and utilize for testing. In addition, OSHA temporarily withheld its consideration of TUV's expansion request due to discrepancies noted during a review of TUV's site. TUV has presented documentation to OSHA to address the issues raised by the review. Although OSHA has decided to proceed with this preliminary finding on the expansion request, the Agency is concerned that the NRTL's resolution to the issues will take some time to implement. Due to these concerns, OSHA plans to conditionally recognize TUV for the additional standards.

TUV seeks recognition for testing and certification of products to demonstrate compliance to the 119 test standards listed below, and OSHA has determined the standards are appropriate, as prescribed by 29 CFR 1910.7(c). OSHA's recognition of any NRTL for a particular test standard is limited to equipment or materials (i.e., products) for which OSHA standards require third party testing and certification before use in the workplace. As a result, the Agency's recognition of an NRTL for a test standard excludes any product(s), falling within the scope of the test standard, for which OSHA has no such requirements.

ANSI/UL 22 Amusement and Gaming Machines

ANSI/UL 48 Electric Signs

ANSI/UL 67 Panelboards

ANSI/UL 73 Motor-Operated Appliances

ANSI/UL 82 Electric Gardening Appliances

ANSI/UL 122 Photographic Equipment

ANSI/UL 130 Electric Heating Pads

ANSI/UL 136 Pressure Cookers

ANSI/UL 141 Garment Finishing Appliances

ANSI/UL 153 Portable Electric Lamps

ANSI/UL 174 Household Electric Storage Tank Water Heaters

ANSI/UL 197 Commercial Electric Cooking Appliances

ANSI/UL 250 Household Refrigerators and Freezers

ANSI/UL 298 Portable Electric Hand Lamps

ANSI/UL 430 Waste Disposers

ANSI/UL 443 Steel Auxiliary Tanks for Oil-Burner Fuel

UL 444 Communications Cables

ANSI/UL 448 Pumps for Fire Protection Service

ANSI/UL 452 Antenna-Discharge Units

ANSI/UL 469 Musical Instruments and Accessories

ANSI/UL 471 Commercial Refrigerators and Freezers

ANSI/UL 474 Dehumidifiers

ANSI/UL 482 Portable Sun/Heat Lamps

ANSI/UL 499 Electric Heating Appliances

ANSI/UL 506 Specialty Transformers

ANSI/UL 507 Electric Fans

ANSI/UL 508 Industrial Control Equipment

ANSI/UL 508C Power Conversion Equipment

ANSI/UL 541 Refrigerated Vending Machines

ANSI/UL 561 Floor Finishing Machines

ANSI/UL 583 Electric-Battery-Powered Industrial Trucks

ANSI/UL 621 Ice Cream Makers

ANSI/UL 696 Electric Toys

ANSI/UL 697 Toy Transformers

ANSI/UL 745-1 Portable Electric Tools

ANSI/UL 745-2-1 Particular Requirements of Drills

ANSI/UL 745-2-2 Particular Requirements for Screwdrivers and Impact Wrenches

ANSI/UL 745-2-3 Particular Requirements for Grinders, Polishers, and Disk-Type Sanders

ANSI/UL 745-2-4 Particular Requirements for Sanders

ANSI/UL 745-2-5 Particular Requirements for Circular Saws and Circular Knives

ANSI/UL 745-2-6 Particular Requirements for Hammers

ANSI/UL 745-2-8 Particular Requirements for Shears and Nibblers

ANSI/UL 745-2-9 Particular Requirements for Tappers

ANSI/UL 745-2-11 Particular Requirements for Reciprocating Saws

ANSI/UL 745-2-12 Particular Requirements for Concrete Vibrators

ANSI/UL 745-2-14 Particular Requirements for Planers

ANSI/UL 745-2-17 Particular Requirements for Routers and Trimmers

ANSI/UL 745-2-30 Particular Requirements for Staplers

ANSI/UL 745-2-31 Particular Requirements for Diamond Core Drills

ANSI/UL 745-2-32 Particular Requirements for Magnetic Drill Presses

ANSI/UL 745-2-33 Particular Requirements for Portable Bandsaws

ANSI/UL 745-2-34 Particular Requirements for Strapping Tools

ANSI/UL 745-2-35 Particular Requirements for Drain Cleaners

ANSI/UL 745-2-36 Particular Requirements for Hand Motor Tools

ANSI/UL 745-2-37 Particular Requirements for Plate Jointers

ANSI/UL 749 Household Dishwashers

ANSI/UL 751 Vending Machines

UL 763 Motor-Operated Commercial Food Preparing Machines

UL 775 Graphic Arts Equipment

ANSI/UL 778 Motor Operated Water Pumps

ANSI/UL 826 Household Electric Clocks

ANSI/UL 858 Household Electric Ranges

ANSI/UL 859 Household Electric Personal Grooming Appliance

ANSI/UL 867 Electrostatic Air Cleaners

ANSI/UL 875 Electric Dry Bath Heaters

ANSI/UL 921 Commercial Electric Dishwashers

ANSI/UL 923 Microwave Cooking Appliances

ANSI/UL 935 Fluorescent-Lamp Ballasts

ANSI/UL 961 Electric Hobby and Sports Equipment

ANSI/UL 982 Motor-Operated Household Food Preparing Machines

ANSI/UL 984 Hermetic Refrigerant Motor-Compressors

ANSI/UL 987 Stationary and Fixed Electric Tools

ANSI/UL 1004 Electric Motors

ANSI/UL 1005 Electric Flatirons

ANSI/UL 1012 Power Units Other than Class Two

ANSI/UL 1017 Vacuum Cleaning Machines and Blower Cleaners

ANSI/UL 1018 Electric Aquarium Equipment

ANSI/UL 1026 Electric Household Cooking and Food-Serving Appliances

ANSI/UL 1028 Hair Clipping and Shaving Appliances

ANSI/UL 1042 Electric Baseboard Heating Equipment

ANSI/UL 1081 Swimming Pool Pumps, Filters and Chlorinators

ANSI/UL 1082 Household Electric Coffee Makers and Brewing-Type Appliances

ANSI/UL 1083 Household Electric Skillets and Frying-Type Appliances

ANSI/UL 1230 Amateur Movie Lights

ANSI/UL 1236 Battery Chargers for Charging Engine-Starter Batteries

UL 1240 Electric Commercial Clothes-Drying Equipment

ANSI/UL 1278 Movable and Wall-or Ceiling-Hung Electric Room Heaters

ANSI/UL 1310 Class 2 Power Units

ANSI/UL 1409 Low-Voltage Video Products Without Cathode-Ray-Tube Displays

ANSI/UL 1411 Transformers and Motor Transformers for Use In Audio-, Radio-, and Television-Type Appliances

ANSI/UL 1418 Implosion-Protected Cathode-Ray Tubes for Television-Type Appliances

ANSI/UL 1419 Professional Video and Audio Equipment

ANSI/UL 1431 Personal Hygiene and Health Care Appliances

ANSI/UL 1445 Electric Water Bed Heaters

ANSI/UL 1459 Telephone Equipment

ANSI/UL 1559 Insect-Control Equipment, Electrocution Type

ANSI/UL 1561 Dry Type General Purpose and Power Transformers

ANSI/UL 1563 Electric Spas, Equipment Assemblies, and Associated Equipment

ANSI/UL 1564 Industrial Battery Chargers

ANSI/UL 1570 Fluorescent Lighting Fixtures

ANSI/UL 1571 Incandescent Lighting Fixtures

ANSI/UL 1572 High Intensity Discharge Lighting Fixtures

ANSI/UL 1573 Stage and Studio Lighting Units

ANSI/UL 1574 Track Lighting Systems

ANSI/UL 1585 Class 2 and Class 3 Transformers

UL 1594 Sewing and Cutting Machines

ANSI/UL 1647 Motor-Operated Massage and Exercise Machines

ANSI/UL 1693 Electric Radiant Heating Panels and Heating Panel Sets

ANSI/UL 1727 Commercial Electric Personal Grooming Appliances

ANSI/UL 1776 High-Pressure Cleaning Machines

ANSI/UL 1786 Nightlights

UL 1795 Hydromassage Bathtubs

UL 1838 Low Voltage Landscape Lighting Systems

ANSI/UL 1995 Heating and Cooling Equipment

UL 2021 Fixed and Location-Dedicated Electric Room Heaters

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

The designations and titles of the above test standards were current at the time of the preparation of this notice.

Conditions

As indicated above, OSHA has concerns regarding the additional documentation and procedures that TUV will develop and utilize in testing products to the standards for which the NRTL seeks recognition. Also, the Agency is concerned about TUV's actual implementation of the resolution to the discrepancy noted during an on-site review of TUV's Newtown site. As a result, OSHA plans to recognize TUV subject to a later assessment of the relevant documentation and procedures.

TUV has general “procedures” that it can adapt for each specific test standard covered by this notice, but it must have specific testing procedures for a test standard in-place before it undertakes any testing, and therefore before any certification, of products covered by the particular test standard. If these procedures are not in place, TUV would not meet the requirements for continued recognition of the particular test standard(s). As a result, OSHA plans to impose a condition on granting the expansion to ensure that TUV does develop and implement appropriate written procedures for testing to the test standards covered in this notice. During future on-site visits of the NRTL, the NRTL Program staff would audit for compliance to the condition. The Agency would commence the process to revoke recognition for any test standards for which TUV does not meet the condition.

Similarly, OSHA wants assurance that TUV will properly implement its resolution to the discrepancy already mentioned. The Agency does not reveal the specific findings of its on-site reviews because they often contain specific details that may be confidential or privileged to the NRTL. For purposes of this notice, OSHA proposes the condition in terms that the Agency believes are fair to the NRTL and provide appropriate information to the public.

The conditions that OSHA plans to impose are as follows:

a. TUV must have specific written testing procedures in place before testing products covered by any test standard for which it is recognized and must use these procedures in testing and certifying those products.

b. TUV must restrict the administration, certification, and qualification activities that it performs in its capacity as an NRTL only to its Newtown facility. TUV must perform these activities in accordance with OSHA's relevant policies and criteria for these activities, and in accordance with its response, to the applicable on-site review, that OSHA has accepted.

Preliminary Finding on the Application

TUV has submitted an acceptable request for expansion of its recognition as an NRTL. In processing this request, OSHA performed an on-site assessment (review) of TUV's facility in Newtown, Connecticut, on July 12-14, 1999. TUV has addressed the discrepancies noted by the assessor during the on-site review, following the on-site evaluation. The resolution to the discrepancies are factored into the on-site review report (see Exhibit 20).

Following a review of the application file, the on-site review report, and other pertinent documents, the NRTL Program staff has concluded that OSHA can grant to the TUV facility listed above the expansion of recognition to use the additional one hundred-nineteen (19) test standards, with the conditions to be applied as noted. The staff therefore recommended to the Assistant Secretary that the application be preliminarily approved.

Based upon the recommendation of the staff, the Assistant Secretary has made a preliminary finding that the TUV Rheinland of North America, Inc., facility listed above can meet the recognition requirements, as prescribed by 29 CFR 1910.7, for the expansion of recognition, subject to the above conditions. This preliminary finding does not constitute an interim or temporary approval of the application.

OSHA welcomes public comments, in sufficient detail, on whether TUV has met the requirements of 29 CFR 1910.7 for the expansion of its recognition as a Nationally Recognized Testing Laboratory. Your comment should consist of pertinent written documents and exhibits. To consider it, OSHA must receive the comment at the address provided above (see ADDRESS), no later than the last date for comments (see DATES above). You may obtain or review copies of the TUV request, the on-site review report, and all submitted comments, as received, by contacting the Docket Office, Room N2625, Occupational Safety and Health Administration, U.S. Department of Labor, at the above address. You should refer to Docket No. NRTL-3-92, the permanent record of public information on the TUV recognition.

The NRTL Program staff will review all timely comments and, after resolution of issues raised by these comments, will recommend whether to grant the TUV expansion request. The Assistant Secretary will make the final decision on granting the expansion and, in making this decision, may undertake other proceedings prescribed in Appendix A to 29 CFR Section 1910.7. OSHA will publish a public notice of this final decision in the Federal Register.

Signed at Washington, D.C. this 10th day of February, 2000.
Charles N. Jeffress,
Assistant Secretary.

[FR Doc. 00-4966 Filed 3-1-00; 8:45 am]

BILLING CODE 4510-26-P